DEPARTMENT OF ENERGY

Energy Efficiency and Renewable Energy

Biomass Research and Development Technical Advisory Committee

AGENCY: Energy Efficiency and Renewable Energy, Department of Energy.

ACTION: Notice of open meeting.

SUMMARY: This notice announces an open meeting of the Biomass Research and Development Technical Advisory Committee. The Federal Advisory Committee Act (Pub. L. 92-463, 86 Stat. 770) requires that public notice of these meetings be announced in the Federal Register.

DATES: August 14, 2013, 8:30 a.m.-5:30 p.m. August 15, 2013, 8:30 a.m.-12:30 p.m.

ADDRESSES: American Geophysical Union, 2000 Florida Avenue NW., Washington, DC 20009.

FOR FURTHER INFORMATION CONTACT: Elliott Levine, Designated Federal Officer, Office of Energy Efficiency and Renewable Energy, U.S. Department of Energy, 1000 Independence Avenue SW, Washington, DC 20585; (202) 586-1476; email: Elliott.Levine@ee.doe.gov or Roy Tiley at (410) 997-7778 ext. 220; email: rtiley@bcs-hq.com.

SUPPLEMENTAL INFORMATION:

Purpose of the Committee: The Committee advises the points of contact (Departments of Energy and Agriculture) with respect to the Biomass R&D Initiative (Initiative) and also makes written recommendations to the Biomass R&D Board (Board). Those recommendations regard whether: (A) Initiative funds are distributed and used consistent with Initiative objectives; (B) solicitations are open and competitive with awards made annually; (C) objectives and evaluation criteria of the solicitations are clear; and (D) the points of contact are funding proposals selected on the basis of merit, and determined by an independent panel of qualified peers.

Purpose of Meeting: To provide advice and guidance that promotes research and development leading to the production of biobased fuels and biobased products.

Tentative Agenda: Agenda will include the following:

• Update on USDA Biomass R&D Activities

• Update on DOE Biomass R&D Activities

• Overview of DOE Office of Science R&D Programs

• Overview of Other Agency Biomass R&D Programs

Public Participation: In keeping with procedures, members of the public are welcome to observe the business of the Biomass Research and Development Technical Advisory Committee. To attend the meeting and/or to make oral statements regarding any of the items on the agenda, you must contact Elliott Levine at 202-586-1476; Email: Elliott.Levine@ee.doe.gov or Roy Tiley at (410) 997-7778 ext. 220; Email: rtiley@bcs-hq.com at least 5 business days prior to the meeting. Members of the public will be heard in the order in which they sign up at the beginning of the meeting. Reasonable provision will be made to include the scheduled oral statements on the agenda. If you would like to file a written statement with the Committee, you may do so either before or after the meeting. The Co-chairs will conduct the meeting to facilitate the orderly conduct of business.

Minutes: The minutes of the meeting will be available for public review and copying at http://biomassboard.gov/committee/meetings.html.

Issued at Washington, DC, on July 17, 2013.
LaTanya R. Butler,
Deputy Committee Management Officer.

[FR Doc. 2013-17667 Filed 7-22-13; 8:45 am]

BILLING CODE 6450-01-P